INTERNATIONAL TRADE COMMISSION

[Investigation No. 332-431]

Certain Circular Welded Carbon Quality Line Pipe: Effects of Import Relief Action on the Domestic Industry and Principal Users in the United States

AGENCY: International Trade Commission.

ACTION: Institution of investigation.

EFFECTIVE DATE: April 26, 2001.

SUMMARY: Following receipt, on April 26, 2001, of a request from the United States Trade Representative (USTR), the U.S. International Trade Commission (Commission) instituted investigation No. 332-431, Certain Circular Welded Carbon Quality Line Pipe: Effects of Import Relief Action on the Domestic Industry and Principal Users in the United States, under section 332(g) of the Tariff Act of 1930 (19 U.S.C. 1332(g)).

FOR FURTHER INFORMATION CONTACT: Diane J. Mazur (202-205-3184), Office of Investigations, U.S. International Trade Commission, 500 E St., SW., Washington, DC 20436. Hearing impaired individuals are advised that information on this matter can be obtained by contacting the TDD terminal on (202-205-1810). Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

SUPPLEMENTARY INFORMATION:

Background

Following receipt of a report from the Commission in December 1999 under section 202 of the Trade Act of 1974 (19 U.S.C. § 2252),¹ the President, on February 18, 2000, issued Proclamation 7274, imposing import relief in the form of a tariff on imports of circular welded carbon quality line pipe (65 FR 9193, February 23, 2000). In his memorandum to the Secretary of the Treasury and the USTR that accompanied the proclamation for the line pipe relief action, the President instructed that the USTR request that the Commission, pursuant to section 332(g) of the Tariff Act of 1930 (19 U.S.C. 1332(g)), examine the effects of the relief action on the domestic line pipe industry and the principal users of line pipe in the United States. As requested by the USTR, the Commission's report on the investigation will focus on the effects of action on the domestic welded line pipe industry and on principal users of line pipe in the United States since March 1, 2000, when the President increased tariffs on imports of certain circular welded carbon quality line pipe ² pursuant to section 203 of the Trade Act of 1974. As requested by the USTR, the Commission will transmit its report to the USTR no later than August 30, 2001, the date that the Commission is scheduled to submit its report to the President under section 204(a)(2) of the Trade Act of 1974 (Certain Circular Welded Carbon Quality Line Pipe: Monitoring Developments in the Domestic Industry, Investigation No. TA-204-5).

¹ Circular Welded Carbon Quality Line Pipe, USITC Pub. 3261, Dec. 1999.

² Includes welded carbon quality line pipe of circular cross section, of a kind used for oil and gas pipelines, whether or not stenciled, and not more than 16 inches (406.4 mm) in outside diameter. This investigation excludes goods commonly described in commercial usage as arctic grade line pipe. The products are classified in subheadings 7306.10.10 and 7306.10.50 of the Harmonized Tariff Schedule of the United States. For a detailed description of the subject merchandise, see the annex to Presidential Proclamation 7274 (65 FR 9195, February 23, 2000).

Written Submissions

Interested persons are invited to submit written statements concerning the matters to be addressed in the report. Commercial or financial information that a party desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available for inspection by interested persons in the Office of the Secretary to the Commission. To be assured of consideration by the Commission, written statements relating to the Commission's report should be submitted at the earliest practical date and should be received no later than July 6, 2001. All submissions should be addressed to the Secretary, United States International Trade Commission, 500 E Street SW, Washington, DC 20436.

The Commission may wish to use the confidential business information you provide in this investigation in other investigations conducted under other statutory authority arising out of the relief action taken by the President as a result of the Commission's determination in investigation No. TA-201-70 concerning welded carbon quality line pipe, but will do so only with your consent. Any confidential business information so used will be afforded the protection provided under the appropriate statutory authority. In your request for confidential treatment, please state whether you consent to such use.

Issued: May 3, 2001.
By order of the Commission.
Donna R. Koehnke,
Secretary.

[FR Doc. 01-11678 Filed 5-8-01; 8:45 am]

BILLING CODE 7020-02-P